DEPARTMENT OF COMMERCE

Census Bureau

Proposed Information Collection; Comment Request; Youth Volunteering, Service, and Civic Engagement Survey

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 24, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Richard A. Schwartz, U.S. Census Bureau, 7H0003N, Washington, DC 20233-8400 at (301) 763-7491 (or via the Internet at Richard.A.Schwartz@census.gov).

SUPPLEMENTARY INFORMATION:

I. Abstract

The Census Bureau plans to request a reinstatement of the clearance used to conduct the 2005 and 2007 rounds of the Youth Volunteering and Civic Engagement Survey. The purpose of this voluntary survey is to provide data on volunteer activities, participation in school-based service-learning, and civic engagement among American teenagers.

The Corporation for National and Community Service is the federal agency that encourages Americans of all ages and backgrounds to engage in community-based service and volunteering to meet the nation's educational, public safety, environmental, homeland security, and other human needs. Conducting a study of a rarely evaluated segment of the volunteering population will provide important data that will inform the work that the Corporation is doing across the country. For example, the Corporation's Learn and Serve American grant program provides resources to schools, higher education institutions, and community-based organizations to involve young people in meaningful service to their community while improving academic, civic, social, and career-related skills. In addition, the Corporation's AmeriCorps program provides service opportunities for Americans, ages 17 and older, to make an ongoing and intensive commitment to service to meet critical community needs. Through these programs, the Corporation seeks to promote a culture of service and civic responsibility.

Teenagers are an important, yet often overlooked, volunteering population. Since volunteering during one's youth is an important predictor of continued volunteer activities, by understanding the unique needs and motivations of the teen population, we can better work to engage them in service to this country now and in the future.

This survey is a continuation of the youth volunteering survey first conducted in 2005. In the 2005 survey we included sample persons 12 to 18 years of age. We are considering limiting this age group to 15 to 18 year olds.

The 2008 round will again collect information on the attitudes and behaviors of teenagers in America around volunteering, service learning, and other forms of community involvement. For the proposed survey we will use retired CPS sample. Specifically, we will select teenagers under the age of 18 living in households that were eligible to participate in prior rounds of the September CPS Volunteer Supplement. Linking the survey sample to the September CPS Volunteer Supplement will not only aid in the processing of the collected data, but also in the subsequent analysis of the collected data. For example, in prior rounds of the National Youth Volunteering and Civic Engagement Survey, the levels of reported volunteering among teens was about 55% which is higher than the levels of volunteering reported in the CPS Volunteer Supplement (~29%). Survey design may account for some portion of the difference, but we are concerned that nonresponse bias may enter in as well. By selecting the sample from households that participated in the CPS Volunteer Supplement we will have additional information on volunteering rates that can be used to assess nonresponse bias in the proposed survey.

The data collected in this survey will include information on youth volunteering activities that have taken place during the year prior to data collection. These activities will include both school-based community service requirements as well as volunteering activities conducted through religious and service groups. Basic demographic data for the sample person will be available from the CPS. Specifically, we will ask about the youth's current academic standing; their experiences with school-based community service and volunteering activities in the previous year; their motivations for volunteering; and the impact of school-based service and volunteering on the youth. We will also collect information on the volunteering activities of the youth's family and their attitudes and behaviors in regard to other forms of civic engagement, such as the likelihood of future volunteering, their sense of personal efficacy, their participation in community collaboration, and their political engagement.

II. Method of Collection

The information will be collected by the Census Bureau's Telephone Centers. Advance letters will be sent out about two weeks prior to data collection. These letters will include a letter to the parent as well as a letter to the respondent informing them of the upcoming survey. We will provide phone numbers and e-mail addresses for sample persons and parents of sample persons to contact with questions regarding the survey. We plan to offer a monetary incentive to youth who agree to participate in the survey. All interviewing will be done using an automated instrument designed for use in a centralized telephone-interviewing site.

III. Data

OMB Control Number: 0607-0913.

Form Number: None.

Type of Review: Regular submission.

Affected Public: Individuals or households.

Estimated Number of Respondents: 3,200.

Estimated Time per Response: 30 minutes.

Estimated Total Annual Burden Hours: 1,600.

Estimated Total Annual Cost: $0.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 19, 2007.
Gwellnar Banks,
Management Analyst, Office of the Chief Information Officer.

[FR Doc. E7-20991 Filed 10-24-07; 8:45 am]

BILLING CODE 3510-07-P